DEPARTMENT OF COMMERCE

Census Bureau

Agency Information Collection Activities; Submission to the Office of Management and Budget (OMB) for Review and Approval; Comment Request; Annual Integrated Economic Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Integrated Economic Survey (AIES), prior to the submission of the information collection request (ICR) to OMB for approval.

DATES: To ensure consideration, comments regarding this proposed information collection must be received on or before October 20, 2025.

ADDRESSES: Interested persons are invited to submit written comments by email to Thomas.J.Smith@census.gov or PRAcomments@doc.gov. Please reference Annual Integrated Economic Survey (AIES) in the subject line of your comments. You may also submit comments, identified by Docket Number USBC-2025-0071, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Edward Watkins, AIES Assistant Survey Director, by phone at 301-763-4750 or by email at Edward.E.Watkins.III@census.gov.

SUPPLEMENTARY INFORMATION:

I. Abstract

Since survey year 2023 (collected in calendar year 2024), the Census Bureau has conducted the AIES on an annual basis. The AIES was created to integrate seven annual business surveys into one comprehensive survey. It was designed to combine Census Bureau collections to reduce respondent burden and increase data quality. The collections that were integrated into the AIES were the Annual Retail Trade Survey (ARTS), Annual Wholesale Trade Survey (AWTS), Service Annual Survey (SAS), Annual Survey of Manufactures (ASM), Annual Capital Expenditures Survey (ACES), Manufacturers' Unfilled Orders Survey (M3UFO), and the Report of Organization.

The AIES provides the only comprehensive national and subnational data on business revenues and expenses on an annual basis. The AIES covers domestic, nonfarm employer businesses with operations during the survey year. Nonemployer businesses are not within the scope of the AIES. The AIES will collect the following information from employer businesses in the sample:

• Business characteristics: employment, operating status, organizational change, and ownership information.

• Business classification: business activity, type of operation, and tax status.

• Revenue: sales, shipments, and receipts; revenue by class of customer; taxes; contributions, gifts, and grants; products; and e-commerce activity.

• Operating expenses: purchased services, payroll, benefits, rental payments, utilities, interest, resales, equipment, materials and supplies, and other detailed operating expenses.

• Capital expenditures and inventories.

• Robotic equipment.

Additional topics of collection in the AIES include sources of revenue for providers (e.g., hospitals and other businesses in the health industry) of select services such as inpatient days, outpatient visits to hospitals, patient visits for other selected health industries, revenue from telemedicine services, and expenses for electronic health records.

In survey year 2025 (which will be collected in calendar year 2026), the AIES will begin to use 2022 North American Industry Classification System (NAICS) codes in its sampling, collection, and dissemination operations. Prior to survey year 2025, the AIES employed 2017 NAICS codes.

Beginning with survey year 2025, the AIES will also implement a modular and subsampled content strategy to reduce respondent burden while still meeting data users' needs and preserving data quality. This replaces the more uniform content strategy previously employed by the AIES. Content will be structured into universal and subsampled modules. All companies will answer core questions, but more detailed topics (e.g., capital expenditures, product line data, and specialized inventories) will be assigned to subsamples based on industry and priority.

Furthermore, starting with survey year 2025, the AIES will collect North American Product Classification System (NAPCS)-based data from retail, wholesale, and services businesses. This expansion standardizes product data collection across sectors of the economy, reduces the need for trade-specific revenue detail questions that had previously been asked in the AIES, and streamlines data collection by consolidating multiple revenue questions into a unified format.

In preparation for survey year 2025, the Census Bureau contacted stakeholders to identify items that could be removed from the AIES to reduce respondent burden. As a result of those conversations, the following items will be removed from the AIES:

• Depreciable asset questions.

• Select capital expenditure details (finance leases and software).

• Company-level questions (leased employees and research and development spending).

• Select revenue details (in select industries now covered by NAPCS, where product-level data replaces detailed revenue categories).

The AIES will begin to collect capital expenditures by type (structures and equipment) in survey year 2025. This will be collected once every five years to meet stakeholder needs. Additionally, a new sample will be selected for survey year 2025. The AIES may include a prior year revenue question to aid with sample linking during survey year 2025. However, a final decision has not been made yet regarding the inclusion of the prior year revenue question.

The content and sampling changes that will be implemented for survey year 2025 should lead to an overall reduction in respondent burden. If the number of respondents and/or burden estimate presented in this notice change when the new sample is selected, the Census Bureau will include the updated information in the clearance request, which will be submitted later this year.

Data users will be able to access the AIES estimates through visualizations; the Census Bureau's dissemination platform, data.census.gov; File Transfer Protocol (FTP) tables; Application Programming Interface (API); and the Federal Reserve Economic Data (FRED) database. Private businesses, organizations, industry analysts, educators and students, and economic researchers will use the estimates for analyzing and conducting impact evaluations on past and current economic performance, short-term economic forecasts, productivity, long-term economic growth, market analysis, tax policy, capacity utilization, business fixed capital stocks and capital formation, domestic and international competitiveness trade policy, product development, market research, and financial analysis. Trade and professional organizations will use the estimates to analyze industry trends and benchmark their own statistical programs, develop forecasts, and evaluate regulatory requirements. Government program officials and agencies will use the data for research, economic policymaking, and forecasting. Estimates produced from the AIES will serve as a benchmark for Census Bureau indicator programs, such as the Monthly Retail Trade Survey (MRTS); Manufacturers' Shipments, Inventories, and Orders (M3); Monthly Wholesale Trade Survey (MWTS); and Quarterly Services Survey (QSS). The Census Bureau will also continue to use information collected in the AIES to update and maintain the centralized, multipurpose Business Register that provides sampling populations and enumeration lists for the Census Bureau's economic surveys and censuses. The Bureau of Economic Analysis (BEA) will continue to use the estimates to derive industry output for the input-output accounts and for the gross domestic product (GDP). The Bureau of Labor Statistics (BLS) will continue to use the data as input to its Producer Price Index (PPI) and in developing productivity measurements. Additionally, the Federal Reserve Board (FRB) will continue to use the data to prepare the Index of Industrial Production, to improve estimates of investment indicators for monetary policy, and in monitoring retail credit lending. The Centers for Medicare and Medicaid Services (CMS) will continue to use the data to estimate expenditures for the National Health Accounts and for monitoring and evaluating healthcare industries. The Department of the Treasury will continue to use the data to analyze depreciation and to research economic trends.

II. Method of Collection

The AIES will be collected via the internet using Centurion, the Census Bureau's secure online survey collection tool. In the rare situation where a respondent does not have access to the internet, the data may be collected by telephone. Respondents will receive an email and/or letter notifying them of their requirement to respond and how to access the survey. Responses will be due approximately 30 days from receipt of the notification. Select businesses will receive a due date reminder via a letter or email prior to the due date. After the due date, the Census Bureau will contact nonrespondents to remind them about the survey.

III. Data

OMB Control Number: 0607-1024.

Form Number(s): None.

Type of Review: Regular submission, Request for a Revision of a Currently Approved Collection.

Affected Public: Businesses, or other for-profit or non-profit institutions or organizations.

Estimated Number of Respondents: 305,340.

Estimated Time per Response: 2 hours and 34 minutes per company.

Estimated Total Annual Burden Hours: 784,950.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-16018 Filed 8-20-25; 8:45 am]

BILLING CODE 3510-07-P